DEPARTMENT OF ENERGY

Federal Energy Regulatory Commission

Sunshine Act Meetings

July 19, 2000.

The following notice of meeting is published pursuant to section 3(a) of the Government in the Sunshine Act (Pub. L. No. 94-409), 5 U.S.C. 552B:

AGENCY HOLDING MEETING: Federal Energy Regulatory Commission.

DATE AND TIME: July 26, 2000. 10 a.m.

PLACE: Room 2C, 888 First Street, N.E., Washington, DC 20426.

STATUS: Open.

MATTERS TO BE CONSIDERED: Agenda.

Note: Items listed on the agenda may be deleted without further notice.

CONTACT PERSON FOR MORE INFORMATION: David P. Boergers, Secretary, Telephone (202) 208-0400. For a recording listing items stricken from or added to the meeting, call (202) 208-1627.

This is a list of matters to be considered by the commission. It does not include a listing of all papers relevant to the items on the agenda; however, all public documents may be examined in the Reference And Information Center.

746th—Meeting July 26, 2000, Regular Meeting (10:00 a.m.)

Consent Agenda—Markets, Tariffs and Rates—Electric

CAE-1.

Omitted

CAE-2.

Docket# EL00-83, 000, Nstar Services Company

Other#s ER00-2052, 000, ISO New England Inc.

CAE-3.

Docket# ER00-536, 000, Southwestern Public Service Company

Other#s ER00-536, 001, Southwestern Public Service Company

ER00-536, 001, Southwestern Public Service Company

ER00-536, 002, Southwestern Public Service Company

CAE-4.

Docket# ER00-982, 000, Central Maine Power Company

Other#s ER97-1326, 000, Central Maine Power Company

ER99-238, 000, Central Maine Power Company

ER99-604, 000, Central Maine Power Company

ER99-4534, 000, Central Maine Power Company

ER00-26, 000, Central Maine Power Company

EL00-44, 000, Central Maine Power Company

ER00-1638, 000, Central Maine Power Company

ER00-1638, 001, Central Maine Power Company

ER00-2062, 002, Central Maine Power Company

CAE-5.

Omitted

CAE-6.

Docket# ER00-2669, 000, Central Main Power Company

CAE-7.

Docket# ER00-2644, 000, Southwest Power Pool, Inc.

CAE-8.

Docket# ER00-2689, 000, PPL Electric Utilities Corporation

CAE-9.

Docket# ER00-2726, 000, Southern Energy Delta, L.L.C.

Other#s ER00-2727, 000, Southern Energy Potrero, L.L.C.

CAE-10.

Docket# ER00-2632, 000, California Power Exchange Corporation

CAE-11.

Docket# ER00-2713, 000, Southwest Power Pool, Inc.

CAE-12.

Docket# ER00-2813, 000, New York Independent System Operator, Inc. and PJM Interconnection, L.L.C.

CAE-13.

Omitted

CAE-14.

Omitted

CAE-15.

Docket# ER99-4470, 000, Commonwealth Edison Company

Other#s ER99-4470, 001, Commonwealth Edison Company

EL00-21, 000, Commonwealth Edison Company

EL00-21, 001, Commonwealth Edison Company

CAE-16.

Docket# ER00-2668, 000, Metropolitan Edison Company and Pennsylvania Electric Company

CAE-17.

Docket# ER00-2736, 000, California Power Exchange Corporation

Other#s ER00-2737, 000, California Power Exchange Corporation

CAE-18.

Docket# ER00-3090, 000, PJM Interconnection, L.L.C.

CAE-19.

Docket# ER00-298 003 PJM Interconnection, L.L.C.

Other#s EL00-41, 001, PJM Interconnection, L.L.C.

ER00-298, 000, PJM Interconnection, L.L.C.

ER00-298, 001, PJM Interconnection, L.L.C.

ER00-298, 002, PJM Interconnection, L.L.C.

EL00-41, 000, PJM Interconnection, L.L.C.

EL00-41, 001, PJM Interconnection, L.L.C.

CAE-20.

Docket#s ER00-213, 001, Cincinnati Gas & Electric Company

Other#s EL00-22, 000, Cincinnati Gas & Electric Company

EL00-22, 001, Cincinnati Gas & Electric Company

ER00-213, 000, Cincinnati Gas & Electric Company

CAE-21.

Docket# ER98-496, 006, San Diego Gas & Electric Company

Other#s ER98-2160, 007, San Diego Gas & Electric Company

ER98-496, 009, San Diego Gas & Electric Company

ER98-2160, 004, San Diego Gas & Electric Company

CAE-22.

Docket# ER99-2649, 001, Mid-Continent Area Power Pool

Other#s ER00-2317, 000, Mid-Continent Area Power Pool

ER99-2649, 002, Mid-Continent Area Power Pool

CAE-23.

Docket# ER98-441, 019, Southern California Edison Company

Other#s ER98-441, 000, Southern California Edison Company

CAE-24.

Docket# ER97-1523, 000, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

Other# OA97-470, 000, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

OA97-470, 042, Central Hudson Gas & Electric CorpConsolidated Edison Company of New York, Inc., Long Island Lighting Company, New York State Electric and Gas Corporation, Niagara Mohawk Power Corporation, Orange and Rockland Utilities, Inc., Rochester Gas and Electric Corporation and New York Power Pool

ER97-1523, 044, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234, 000, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234, 010, Central Hudson Gas & Elec Corporation, Consolidated Edison Company of New York, Inc., Long Island Lighting Company, New York State Electric and Gas Corporation, Niagara Mohawk Power Corporation, Orange and Rockland Utilities, Inc., Rochester Gas and Electric Corporation and New York Power Pool

CAE-25.

Docket# ER99-1659, 000, Central Power and Light Company, West Texas Utilities Company, Public Service Company of Oklahoma and Southwestern Electric Power Company

Other#s ER99-1659, 005, Central Power and Light Company, West Texas Utilities Company, Public Service Company of Oklahoma and Southwestern Electric Power Company

ER99-1660, 000, Central Power and Light Company, West Texas Utilities Company, Public Service Company of Oklahoma and Southwestern Electric Power Company

ER99-1660, 005, Central Power and Light Company, West Texas Utilities Company, Public Service Company of Oklahoma and Southwestern Electric Power Company

ER99-1659, 002, Central Power and Light Company, West Texas Utilities Company, Public Service Company of Oklahoma and Southwestern Electric Power Company

ER99-1660, 002, Central Power and Light Company, West Texas Utilities Company, Public Service Company of Oklahoma and Southwestern Electric Power Company

CAE-26.

Docket# ER97-2355, 000, Southern California Edison Company

Other#s ER98-1261, 000, Southern California Edison Company

ER98-1685, 000, Southern California Edison Company

CAE-27.

Docket# ER97-1523, 023, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

Other#s OA97-470, 021, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234, 019, Central Hudson Gas & Electric Corporation Consolidated Edison Company of New York, Inc., Long Island Lighting Company, New York State Electric and Gas Corporation, Niagara Mohawk Power Corporation, Orange and Rockland Utilities, Inc., Rochester Gas and Electric Corporation and New York Power Pool Central Hudson Gas & Electric Corporation, Consolidated Edison Company of New York, Inc., Long Island Lighting Company, New York State Electric and Gas Corporation, Niagara Mohawk Power Corporation, Orange and Rockland Utilities, Inc., Rochester Gas and Electric Corporation and New York Power Pool

CAE-28.

Docket# OA96-194, 000, Niagara Mohawk Power Corporation

CAE-29.

Docket# ER97-1523, 034, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

Other # ER00-556, 003, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

OA97-470, 032, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234, 030, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

CAE-30.

Docket# ER97-1523, 035, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

Other#s ER00-556, 004, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

OA97-470, 033, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234, 031, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

CAE-31.

Docket# ER97-1523, 036, Central Hudson Gas & Electric Corporation, Consolidated Edison Company of New York, Inc., Long Island Lighting Company, New York State Electric and Gas Corporation, Niagara Mohawk Power Corporation, Orange and Rockland Utilities, Inc., Rochester Gas and Electric Corporation W York Power Pool

Other#s ER97-4234, 032, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

OA97-470, 034, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

CAE-32.

Docket# ER97-1523, 033, Central Hudson Gas & Electric Corporation, Consolidated Edison Company of New York, Inc., Long Island Lighting Company, New York State Electric and Gas Corporation, Niagara Mohawk Power Corporation, Orange and Rockland Utilities, Inc., Rochester Gas and Electric Corporation New York Power Pool

Other#s OA97-470, 031, Central Hudson Gas & Electric Corporation, Consolidated Edison Company of New York, Inc., Long Island Lighting Company, New York State Electric and Gas Corporation, Niagara Mohawk Power Corporation, Orange and Rockland Utilities, Inc., Rochester Gas and Electric Corporation New York Power Pool

ER97-4234, 029, Central Hudson Gas & Electric Corporation, Consolidated Edison Company of New York, Inc., Long Island Lighting Company, New York State Electric and Gas Corporation, Niagara Mohawk Power Corporation, Orange and Rockland Utilities, Inc., Rochester Gas and Electric Corporation New York Power Pool

CAE-33.

Docket# ER97-913, 001, Connecticut Yankee Atomic Power Company

CAE-34.

Docket# ER98-496, 008, San Diego Gas & Electric Company

Other#s ER98-2160, 000, San Diego GAS & Electric Company

ER98-496, 000, San Diego Gas & Electric Company

ER98-2160, 006, San Diego Gas & Electric Company

CAE-35.

Docket# ER98-441, 013, Southern California Edison Company

CAE-36.

Docket# ER00-671, 000, Puget Sound Energy, Inc.

Other#s ER00-671, 001, Puget Sound Energy, Inc.

ER00-672, 000, Puget Sound Energy, Inc.

ER00-672, 001, Puget Sound Energy, Inc.

ER00-673, 000, Puget Sound Energy, Inc.

ER00-673, 001, Puget Sound Energy, Inc.

ER00-674, 000, Puget Sound Energy, Inc.

ER00-674, 001, Puget Sound Energy, Inc.

ER00-674, 002, Puget Sound Energy, Inc.

ER00-676, 000, Puget Sound Energy, Inc.

ER00-676, 001, Puget Sound Energy, Inc.

ER00-677, 000, Puget Sound Energy, Inc.

ER00-677, 001, Puget Sound Energy, Inc.

ER00-678, 000, Puget Sound Energy, Inc.

ER00-678, 001, Puget Sound Energy, Inc.

CAE-37.

Omitted

CAE-38.

Docket# ER99-2339, 003, Sierra Pacific Power Company

CAE-39.

Docket# EC00-27, 000, Utilicorp United Inc. and St. Joseph Light & Power Company

Other#s EC00-27, 001, Utilicorp United Inc. and St. Joseph Light & Power Company

EC00-28, 000, Utilicorp United Inc. and Empire District Electric Company

EC00-28, 001, Utilicorp United Inc. and Empire District Electric Company

CAE-40.

Docket# EC00-75, 000, Nisource, Inc. and Columbia Energy Group

CAE-41.

Docket# EC00-63, 000, Sierra Pacific Power Company, Nevada Power Company and Portland General Electric Company

Other#s ER00-1801, 000, Nevada Power Company

CAE-42.

Docket# EC00-73, 000, El Paso Energy Corporation and the Coastal Corporation

CAE-43.

Docket# ER94-1377, 001, Delmarva Power & Light Company

Other#s EL93-53, 000, Southwestern Public Service Company

EL94-16, 000, Wisconsin Electric Power Company

EL96-37, 000, Pacific Gas & Electric Company

EL96-41, 000, Tule Hub Service Company

EL96-45, 000, Modesto Irrigation District

EL96-50, 000, Peco Energy Company

ER96-3157, 001, Niagara Mohawk Power Corporation

EL97-47, 000, Wisconsin Electric Power Company

EL97-52, 000, Niagara Mohawk Power Corporation

OA97-237, 006, New England Power Pool

OA97-608, 004, New England Power Pool

ER97-1079, 005, New England Power Pool

ER97-3574, 004, New England Power Pool

ER97-4421, 004, New England Power Pool

EL98-74, 001, South Mississippi Electric Power Association v. Entergy Services, Inc.

ER98-499, 003, New England Power Pool

ER98-2910, 001, Energy Services, Inc.

ER98-3568, 001, New England Power Pool

ER99-387, 001, New England Power Pool

ER99-2335, 001, New England Power Pool

ER99-4002, 001, ISO New England, Inc.

TX98-1, 000, Chicago Housing Authority

OA97-470, 001, New York Power Pool

ER97-986, 001, New York Power Pool

CAE-44.

Docket# ER97-2353, 002, New York State Electric & Gas Corporation

CAE-45.

Docket# EL98-36, 001, Aquila Power Corporation v. Entergy Services, Inc., as Agent for Entergy Arkansas, Inc., Entergy Louisiana, Inc., Entergy Mississippi, Inc., Entergy New Orleans, Inc. and Entergy Gulf States, Inc.

ER91-569, 010, Entergy Services, Inc.

CAE-46.

Docket# ER00-1933, 001, Entergy Services, Inc.

CAE-47.

Omitted

CAE-48.

Docket# ER00-1969, 002, New York Independent System Operator, Inc.,

Other# EL00-64, 000, Rochester Gas and Electric Corporation v. New York Independent System Operator, Inc.

CAE-49.

Docket# EL99-6, 000, Sam Rayburn G&T Electric Cooperative, Inc., V. Entergy Gulf States, Inc. and Entergy Services, Inc.

Other#s ER99-231, 000, Sam Rayburn G&T Electric Cooperative, Inc., Entergy Gulf States, Inc. and Entergy Services, Inc.

ER99-232, 000, Sam Rayburn G&T Electric Cooperative, Inc., Entergy Gulf States, Inc. and Entergy Services, Inc.

ER99-487, 000, Sam Rayburn G&T Electric Cooperative, Inc., Entergy Gulf States, Inc. and Entergy Services, Inc.

CAE-50.

Docket# RM99-7, 000, Depreciation Accounting

CAE-51.

Omitted

CAE-52.

Docket# EL00-78, 000, Baconton Power LLC

CAE-53.

Docket# EL00-72, 000, Praxair, Inc.

Other#s QF86-1079, 001, Praxair, Inc.

CAE-54.

Docket# EL00-81, 000, Southaven Power, LLC

CAE-55.

Docket#EL00-84,000,Prairieland Energy, Inc.

CAE-56.

Omitted

CAE-57.

Docket# EL00-1, 002, AES NY, L.L.C. v. Niagara Mohawk Power Corporation

CAE-58.

Docket# EL00-9, 000, Cherokee County Cogeneration Partners L.P. v. Duke Energy Corporation

Other#s ER99-2331, 002, Duke Energy Corporation

CAE-59.

Docket# EL00-77, 000, Skygen Energy LLC v. Southern Company Services, Inc.

CAE-60.

Docket# EL00-82, 000, Niagara Mohawk Energy Marketing, Inc. v. New York Independent Sysem Operator, Inc.

CAE-61.

Docket# EL00-80, 000, Indeck Maine Energy, L.L.C. v. ISO New England Inc.

CAE-62.

Docket# RM95-9, 013, Open Access Same-Time Information System and Standards of Conduct

CAE-63.

Docket# RM95-9, 014, Open Access Same-Time Information System and Standards of Conduct

CAE-64.

Docket# ER95-1042, 000, System Energy Resources, Inc.

CAE-65.

Docket# EL00-70, 000, New York State Electric and Gas Corporation v. New York Independent System Operator, Inc.

Other# EL00-70, 001, New York State Electric & Gas Corporation v. New York Independent System Operator, Inc.

ER00-3038, 000, New York Independent System Operator, Inc.

CAE-66.

Investigation of Electric Bulk Power Markets

Consent Agenda—Miscellaneous

CAM-1.

Docket# RM99-10, 000, Revisions to and Electronic Filing of the Ferc Form No. 6 and Related Uniform Systems of Accounts

CAM-2.

Docket# RM99-8, 000, Preservations of Records of Public Utilities and Licensees, Natural Gas Companies and Oil Pipeline Companies

Consent Agenda—Markets, Tariffs and Rates—Gas

CAG-1.

Omitted

CAG-2.

Omitted

CAG-3.

Docket# PR00-14, 000, Aim Pipeline Company

CAG-4.

Docket# RP00-366, 000, Southwest Gas Storage Company

CAG-5.

Docket# RP00-358, 000, Natural Gas Pipeline Company of America

CAG-6.

Docket# RP96-383, 007, Dominion Transmission, Inc.

CAG-7.

Docket# RP00-369, 000, Trunkline Gas Company

Other#s RP00-376, 000, Trunkline LNG Company

CAG-8.

Docket# RP00-363, 000, Natural Gas Pipeline Company of America

CAG-9.

Omitted

CAG-10.

Omitted

CAG-11.

Docket# RP00-359, 000, Koch Gateway Pipeline Comapny

CAG-12.

Omitted

CAG-13.

Docket# RP00-370, 000, Northern Natural Gas Company

CAG-14.

Omitted

CAG-15.

Omitted

CAG-16.

Omitted

CAG-17.

Docket# RP00-354, 000, Columbia Gas Transmission Corporation

CAG-18.

Docket# RP00-17, 002, Transcontinental Gas Pipe Line Corporation

CAG-19.

Omitted

CAG-20.

Docket# RP00-316, 000, Kinder Morgan Interstate Gas Transmission LLC

Other#s RP00-343, 000, Kinder Morgan Interstate Gas Transmission LLC

CAG-21.

Omitted

CAG-22.

Docket# PR00-12, 000, Louisiana Intrastate Gas Company L.L.C.

CAG-23.

Docket# RP96-383, 005, Dominion Transmission, Inc.

CAG-24.

Docket# RP00-237, 001, Columbia Gas Transmission Corporation

CAG-25.

Docket# RP00-238, 001, Columbia Gulf Transmission Company

CAG-26.

Docket# RP00-364, 000, Clear Creek Storage Company, L.L.C.

CAG-27.

Docket# RP00-356, 000, El Paso Natural Gas Company

CAG-28.

Docket# RP00-298, 000, Kern River Gas Transmission Company

Other#s RP00-298, 001, Kern River Gas Transmission Company

RP00-298, 002, Kern River Gas Transmission Company

CAG-29.

Docket# RP00-375, 000, Panhandle Eastern Pipe Line Company

CAG-30.

Omitted

CAG-31.

Docket# RP00-371, 000, Northern Border Pipeline Company

CAG-32.

Omitted

CAG-33.

Docket# RP99-291, 002, Transcontinental Gas Pipe Line Corporation

CAG-34.

Docket# PR00-11, 000, Humble Gas Pipeline Company

CAG-35.

Docket# OR99-5, 000, Colonial Pipeline Company

CAG-36.

Docket# OR99-6, 000, TE Products Pipeline Company, L.P.

CAG-37.

Omitted

CAG-38.

Docket# RP00-199, 001, Reliant Energy Gas Transmission Company

CAG-39.

Docket# RM98-10, 005, Regulation of Short-Term Natural Gas Transportation Services

Other#s

RM98-12,005,Regulation of Interstate Natural Gas Transportation Services

CAG-40.

Omitted

CAG-41.

Docket# PR00-15, 000, Overland Trail Transmission Company

CAG-42.

Docket# MG00-8, 000, Egan Hub Partners, L.P.

CAG-43.

Docket# RM00-11, 000, Five-Year Review of Oil Pipeline Pricing Index

CAG-44.

Docket# RP00-275, 000, Chesapeake Panhandle Limited Partnership v. Natural Gas Pipeline Company of America, Midcom Gas Products Corporation, Midcom Gas Services Corporation, KN Energy, Inc. and Kinder Morgan, Inc.

CAG-45.

Docket# RP92-137, 050, Transcontinental Gas Pipe Line Corporation

CAG-46.

Docket# OR00-6, 000, Chevron Pipe Line Company

CAG-47.

Omitted

Consent Agenda—Energy Projects—Hydro

CAH-1.

Docket# P-2389, 032, State of Maine

Other#s P-2322, 027, FPL Energy Maine Hydro LLC

P-2325,030,FPL Energy Maine Hydro LLC

P-2552,034,FPL Energy Maine Hydro LLC

P-2574,026,Merimil Limited Partnership

P-2611,035,UAH-Hydro Kennebec Limited Partnership

P-5073,056,Benton Falls Associates

CAH-2.

Docket# HB69-93-7, 007, Wisconsin Electric Power Company, Repap, Inc. and City Kaukauna, Wisconsin

Consent Agenda—Energy Projects—Certificates

CAC-1.

Docket# CP96-178, 013, Maritimes & Northeast Pipeline, L.L.C.

Other#s CP96-809, 011, Maritimes & Northeast Pipeline, L.L.C.

CP96-810, 005, Maritimes & Northeast Pipeline, L.L.C.

CP97-238, 011, Maritimes & Northeast Pipeline, L.L.C.

CP98-724, 002, Maritimes & Northeast Pipeline, L.L.C.

CP98-797, 002, Maritimes & Northeast Pipeline, L.L.C.

CAC-2.

Docket# PL99-3, 002, Certification of New Interstate Natural Gas Pipeline Facilities

CAC-3.

Docket# CP99-163, 000, Questar Southern Trails Pipeline Company

Other#s CP99-163, 001, Questar Southern Trails Pipeline Company

CP99-165,000,Questar Southern Trails Pipeline Company

CP99-166,000,Questar Southern Trails Pipeline Company

CAC-4.

Docket# CP98-702, 002, Natural Gas Pipeline Company of America

CAC-5.

Docket# CP00-34, 000, Algonquin Gas Transmission Company

CAC-6.

Docket# CP00-392, 000, Stanfield Hub Services, LLC

CAC-7.

Docket# CP00-47, 000, Trans-Union InterState Pipeline, L.P.

CAC-8.

Docket# CP00-48, 000, Tennessee Gas Pipeline Company

Other#s CP00-48, 001, Tennessee Gas Pipeline Company

CAC-9.

Omitted

CAC-10.

Docket# CP00-82, 000, Williams Gas Pipelines Central, Inc.

CAC-11.

Docket# CP00-384, 000, Norteno Pipeline Company and Southern Transmission Company

CAC-12.

Docket# CP99-541, 001, Cotton Valley Compression, L.L.C.

Other#s CP99-542, 001, Cotton Valley Compression, L.L.C.

CP99-543,001,Cotton Valley Compression, L.L.C.

CAC-13.

Docket# RM99-5, 001, Regulations under the Outer Continental Shelf Lands Act Governing the Movement of Natural Gas on Facilities on the Outer Continental Shelf

CAC-14.

Docket# CP95-168, 003, SEA Robin Pipeline Company

Energy Projects—Hydro Agenda

H-1.

Reserved

Energy Projects—Certificates Agenda

C-1.

Reserved

Markets, Tariffs and Rates—Electric Agenda

E-1.

Reserved

Markets, Tariffs and Rates—Gas Agenda

G-1.

Reserved

David P. Boergers,
Secretary.

[FR Doc. 00-18701 Filed 7-20-00; 10:39 am]

BILLING CODE 6717-01-P